DEPARTMENT OF TRANSPORTATION

Federal Aviation Administration

14 CFR Part 71

[Docket No. FAA-2003-16059; Airspace Docket No. 03-AGL-16]

Modification of Class E Airspace; Mount Comfort, IN; Revocation of Class E Airspace; Indianapolis-Brookside, IN; Modification of Legal Description; Indianapolis-Terry, IN

AGENCY: Federal Aviation Administration (FAA), DOT.

ACTION: Final rule.

SUMMARY: This action modifies Class E airspace at Mount Comfort, IN, revokes Class E airspace at Indianapolis-Brookside, IN, and modifies the legal description at Indianapolis-Terry, IN. The Indianapolis Brookside Airpark has been abandoned, and the Standard Instrument Approach Procedures (SIAPS) decommissioned. The Class E airspace area extending upward from 700 feet above the surface of the earth is no longer needed. Additionally, the airport name at Indianapolis-Terry, IN, has been changed. This action revokes the existing Class E airspace area for Indianapolis Brookside Airpark, IN, modifies the area of the existing Class E airspace for Mount Comfort Airport, IN, and modifies the legal description for Indianapolis Terry Airport.

EFFECTIVE DATE: 0901 UTC, August 5, 2004.

FOR FURTHER INFORMATION CONTACT: Patricia A. Graham, Air Traffic Division, Airspace Branch, AGL-520, Federal Aviation Administration, 2300 East Devon Avenue, Des Plaines, Illinois 60018, telephone (847) 294-7568.

SUPPLEMENTARY INFORMATION:

History

On Wednesday, January 14, 2004, the FAA proposed to amend 14 CFR part 71 to modify Class E airspace at Mount Comfort, IN, revoke Class E airspace at Indianapolis-Brookside, IN, and modify the legal description at Indianapolis-Terry, IN, (69 FR 2088). The proposal was to modify the existing Class E airspace area at Mount Comfort, IN, revoke the existing Class E airspace area at Indianapolis-Brookside, IN, and modify the legal description at Indianapolis-Terry, IN. The Indianapolis Brookside Airpark has been abandoned, and the existing area of Class E airspace is no longer needed. Additionally, the name of the Indianapolis Terry Airport has changed.

Interested parties were invited to participate in this rulemaking proceeding by submitting written comments on the proposal to the FAA. No comments objecting to the proposal were received. Class E airspace areas extending upward from 700 feet or more above the surface of the earth are published in paragraph 6005, of FAA Order 7400.9L dated September 2, 2003, and effective September 16, 2003, which is incorporated by reference in 14 CFR 71.1. The Class E airspace designations listed in this document will be published subsequently in the order.

The Rule

This amendment to 14 CFR part 71 modifies Class E airspace at Mount Comfort, IN, revokes Class E airspace at Indianapolis-Brookside, IN, and modifies the legal description at Indianapolis-Terry, IN. The area will be depicted on appropriate aeronautical charts.

The FAA has determined that this regulation only involves an established body of technical regulations for which frequent and routine amendments are necessary to keep them operationally current. Therefore this, proposed regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9L, Airspace Designations and Reporting Points, dated September 2, 2003, and effective September 16, 2003, is amended as follows:

* * * * *

Paragraph 6005 Class E airspace areas extending upward from 700 feet or more above the surface of the earth.

* * * * *

AGL IN E5 Indianapolis Brookside Airpark, IN [Revoked]

AGL IN E5 Mount Comfort, IN [Revised]

Mount Comfort Airport, IN

(Lat. 39°50′37″ N., long. 85°53′49″ W.)

Indianapolis Metropolitan Airport, IN

(Lat. 39°56′07″ N., long. 86°02′42″ W.)

Indianapolis Executive Airport, IN

(Lat. 40°01′50″ N., long. 86°15′05″ W.)

That airspace extending upward from 700 feet above the surface within a 6.5-mile radius of Mount Comfort Airport, and within a 6.3-mile radius of Indianapolis Metropolitan Airport, excluding that airspace within the Indianapolis Executive Airport, IN, Class E airspace area.

AGL IN E5 Indianapolis Executive Airport, IN [Revised]

Indianapolis Executive Airport, IN

(Lat. 40°01′50″ N., long. 86°15′05″ W.)

That airspace extending upward from 700 feet above the surface within a 6.5-mile radius of Indianapolis Executive Airport.

* * * * *

Issued in Des Plaines, Illinois on April 7, 2004.
Nancy B. Shelton,
Manager, Air Traffic Division, Great Lakes Region.

[FR Doc. 04-9074 Filed 4-20-04; 8:45 am]

BILLING CODE 4910-13-M